FEDERAL COMMUNICATIONS COMMISSION

Notice of Public Information Collection(s) Being Submitted for Review and Approval to the Office of Management and Budget (OMB)

AGENCY: Federal Communications Commission.

ACTION: Notice and request for comments.

SUMMARY: As part of its continuing effort to reduce paperwork burden and as required by the Paperwork Reduction Act (PRA) of 1995 (44 U.S.C. 3502-3520), the Federal Communications Commission invites the general public and other Federal agencies to take this opportunity to comment on the following information collection(s). Comments are requested concerning: (a) Whether the proposed collection of information is necessary for the proper performance of the functions of the Commission, including whether the information shall have practical utility; (b) the accuracy of the Commission's burden estimates; (c) ways to enhance the quality, utility, and clarity of the information collected; (d) ways to minimize the burden of the collection of information on the respondents, including the use of automated collection techniques or other forms of information technology; and (e) ways to further reduce the information collection burden on small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before October 24, 2011. If you anticipate that you will be submitting PRA comments, but find it difficult to do so within the period of time allowed by this notice, you should advise the FCC contact listed below as soon as possible.

ADDRESSES: Submit your PRA comments to Nicholas A. Fraser, Office of Management and Budget (OMB), via fax at 202-395-5167 or via Internet at Nicholas_A._Fraser@omb.eop.gov <mailto:Nicholas_A._Fraser@omb.eop.gov> and to Judith B. Herman, Federal Communications Commission, via the Internet at Judith-b.herman@fcc.gov. To submit your PRA comments by e-mail send them to: PRA@fcc.gov <mailto:PRA@fcc.gov>.

FOR FURTHER INFORMATION CONTACT: Judith B. Herman, Office of Managing Director, FCC, at 202-418-0214.

SUPPLEMENTARY INFORMATION: OMB Control Number: 3060-0804.

Title: Universal Service—Rural Health Care Program/Rural Health Care Pilot Program.

Form No.: FCC Forms 465, 466, 466-A and 467.

Type of Review: Revision of a currently approved collection.

Respondents: Business or other for-profit, not-for-profit institutions and state, local or tribal government.

Number of Respondents: 6,500 respondents; 48,895 responses.

Estimated Time per Response: .10 hours to 20 hours.

Frequency of Response: On occasion, one time, quarterly, month and annual reporting requirements, recordkeeping requirement and third party disclosure requirement.

Obligation to Respond: Required to obtain or retain benefits. Statutory authority for this information collection is contained in 47 U.S.C. sections 151-154(i), 201-205, 214, 254 and 403.

Total Annual Burden: 57,796 hours.

Total Annual Cost: N/A.

Privacy Act Impact Assessment: N/A.

Nature and Extent of Confidentiality: The Commission is not requesting that the respondents submit confidential information to the FCC. However, respondents may request materials or information submitted to the Commission be withheld from public inspection under 47 CFR 0.459 of the Commission's rules.

Needs and Uses: The Commission will submit this revised information collection to the Office of Management and Budget (OMB) during this 30 day comment period in order to obtain the full three year clearance from them.

The purpose of the revision is to seek OMB approval for eight templates, samples and spreadsheets provided to program participants to facilitate the reporting, recordkeeping and/or third party disclosure requirements under this OMB control number. These attachments include the following: (1) Attachment 1—Community Mental Health Center Verification Template; (2) Attachment 2—Invoice Template; (3) Attachment 3—FCC Form 465 Attachment Spreadsheet; (4) Attachment 4—Letter of Agency Template; (5) Attachment 5—Transfer of Letter of Agency; (6) Attachment 6—Network Cost Worksheet; (7) Attachment 7—Certification of Program Participant Template; and (8) Attachment 8—Vendor Certification Template.

For more details on this revision, see the 60 day notice that was published on July 22, 2011 (76 FR 44006).

Federal Communications Commission.
Marlene H. Dortch,
Secretary, Office of the Secretary, Office of Managing Director.

[FR Doc. 2011-24378 Filed 9-21-11; 8:45 am]

BILLING CODE 6712-01-P